NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 4, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. e-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-03-12, 4 items, 2 temporary items). Records relating to reporting terrorist threats, including reports, report updates, and dissemination data. Also included are electronic copies of records created using electronic mail and word processing that relate to terrorist threats, terrorist attacks, and anti-terrorist activities. This schedule authorizes the agency to apply the proposed disposition instructions to records regardless of medium. Recordkeeping copies of files relating to anti-terrorism programs and terrorist incidents and attacks are proposed for permanent retention.

2. Department of Commerce, Office of the Secretary (N1-40-03-2, 22 items, 18 temporary items). Records of the Office of the General Counsel, including attorney's working files, litigation case files, Freedom of Information Act files, administrative correspondence, contract review case files, legislation case files, and records relating to inventions. Also included are electronic versions of files proposed for disposal as well as electronic copies of records created using electronic mail and word processing. Proposed for permanent retention are recordkeeping copies of such files as legal program subject correspondence, legislative histories, and confirmation hearing records.

3. Department of Commerce, National Oceanic and Atmospheric Administration (N1-370-02-4, 10 items, 7 temporary items). Records of the Office of Coastal Resource Management, including such files as supporting materials associated with coastal zone management program documents and coastal non-point pollution control program files, records relating to consistency reviews of Federal regulations, and program administrative guidance. Also included are electronic copies of records created using electronic mail and word processing. Proposed for permanent retention are recordkeeping copies of such files as coastal zone management program documents, program change files, and coastal non-point pollution control program files.

4. Department of Commerce, National Oceanic and Atmospheric Administration (N1-370-02-5, 18 items, 14 temporary items). Data, documentation, inputs, and outputs associated with the Specimen Database and the Program Funding Database, inputs and outputs associated with the National Benthic Infaunal Database and the Estuarine Living Marine Resource Database, grants working files, and electronic copies of records created using electronic mail and word processing. Proposed for permanent retention are data and system documentation associated with the National Benthic Infaunal Database and the Estuarine Living Marine Resource Database.

5. Department of Commerce, National Oceanic and Atmospheric Administration (N1-370-03-8, 6 items, 5 temporary items). Records of the damage assessment and restoration program relating to actions taken to support or implement natural resource restoration activities. Included are copies of restoration post-settlement records, such as grants, contracts, reports, and permit clearances in textual, photographic, and microfilm formats. Also included are electronic copies of records created using electronic mail and word processing. Proposed for permanent retention is the official record set of post-settlement administrative records, which includes records documenting determinations made regarding the planning, implementation, and monitoring of individual restoration projects.

6. Department of Defense, National Imagery and Mapping Agency (N1-537-03-16, 2 items, 2 temporary items). Records management surveys and office file plans. This schedule authorizes the agency to apply the proposed disposition instructions to any recordkeeping medium.

7. Department of Health and Human Services, Office of the Secretary (N1-468-03-1, 12 items, 6 temporary items). Records of the Secretary's Advisory Committee on Regulatory Reform, including such records as notes on logistical planning for meetings and hearings, subcommittee background information and routine communications, and files relating to the preparation of the committee's final report. Also included are electronic copies of records created using electronic mail and word processing. Proposed for permanent retention are recordkeeping copies of committee organization and formation documents, meeting agendas, transcripts, testimony, briefings, recommendations, public comments, official publications, notices, and the committee's final report to the Secretary.

8. Environmental Protection Agency, Office of Prevention, Pesticides, and Toxic Substances (N1-412-01-10, 3 items, 3 temporary items). Toxic Substances Control Act tracking and control records pertaining to the handling and use of confidential business information. Also included are electronic copies of records created using electronic mail and word processing.

9. Environmental Protection Agency, Office of Prevention, Pesticides, and Toxic Substances (N1-412-03-13, 4 items, 3 temporary items). Paper and microfilmed copies (excluding recordkeeping copies) of correspondence, documents relating to incidents that have adverse effects, and reports of water contamination. Also included are electronic copies of documents created using electronic mail and word processing. Recordkeeping copies of these files are proposed for permanent retention.

10. General Accounting Office, Office of General Counsel (N1-411-03-1, 1 temporary item). Documents that identify individuals who have supplied sensitive information to the agency and have been given an assurance of confidentiality.

11. National Archives and Records Administration, Office of Records Services—Washington, DC (N2-26-03-1, 1 temporary item). Records accumulated by the Coast Guard, 1973-1984, consisting of strip charts containing data used to ensure the accuracy of the Omega radio navigation system. Records were previously accessioned into the National Archives but lack historical value.

12. National Archives and Records Administration, Agency-wide (N1-64-03-6, 9 items, 9 temporary items). Records relating to Web site operations such as security logs, search engine logs, reference documentation, and design and testing files. Also included are electronic copies of documents created using electronic mail and word processing.

13. Small Business Administration, Office of Capital Access (N1-309-03-7, 10 items, 10 temporary items). Inputs, outputs, system documentation, and master files of the Investment Division Participating Securities Database, which contains information concerning Small Business Investment Company participating securities. Also included are electronic copies of documents created using electronic mail and word processing.

14. Small Business Administration, Office of Hearings and Appeals (N1-309-03-8, 6 items, 6 temporary items). Master files, outputs, and other records associated with an electronic system used for tracking appeals of decisions made by program offices. Also included are electronic copies of documents created using electronic mail and word processing.

15. Small Business Administration, Office of Business Development (N1-309-03-9, 11 items, 9 temporary items). Records associated with the Certification Tracking System, which is used for tracking applications by firms seeking certification as a Small Disadvantaged Business. Included are inputs, outputs, backups, and electronic copies of documents created using electronic mail and word processing. The master data file and system documentation are proposed for permanent retention.

Dated: July 14, 2003.
Michael J. Kurtz,
Assistant Archivist for Record Services—Washington, DC.

[FR Doc. 03-18423 Filed 7-18-03; 8:45 am]

BILLING CODE 7515-01-P